DEPARTMENT OF VETERANS AFFAIRS

Veterans' Family, Caregiver, and Survivor Advisory Committee, Notice of Meeting

The Department of Veterans Affairs (VA) gives notice under the Federal Advisory

Committee Act (FACA) that the Veterans' Family, Caregiver, and Survivor Advisory Committee will meet on March 25-26, 2020. The meeting will be held at the American Red Cross, 430 17th Street NW, Washington, DC 20006. The meeting sessions will begin and end as follows:

Date: | Time:
March 25, 2020 | 9 a.m. to 4:30 p.m. EST.
March 26, 2020 | 9 a.m. to 2:00 p.m. EST.

The meetings are open to the public.

The purpose of the Committee is to advise the Secretary of Veterans Affairs on matters related to: The need of Veterans' families, caregivers, and survivors across all generations, relationships, and Veterans status; the use of VA care, benefits and memorial services by Veterans' families, caregivers, and survivors, and opportunities for improvements to the experience using such services; VA policies, regulations, and administrative requirements related to the transition of Servicemembers from the Department of Defense (DoD) to enrollment in VA that impact Veterans' families, caregivers, and survivors; and factors that influence access to, quality of, and accountability for services, benefits and memorial services for Veterans' families, caregivers, and survivors.

On March 25 and March 26, the agenda will include opening remarks from the Committee Chair and the Chief Veterans Experience Officer. There will be updates on the Center of Excellence for Veteran and Caregiver Research, Program of Comprehensive Assistance for Family Caregivers, and caregiver research conducted by the Elizabeth Dole Foundation. On March 25, 2019, public comments will be received at 3:30 p.m. to 4:30 p.m.

Individuals wishing to speak should contact Ms. Toni Bush Neal (Alternate Designated Federal Official) at VEOFACA@va.gov to submit a 1-2 page summary of their comments for inclusion in the official meeting record. In accordance with FACA guidelines, each speaker will be held to a 5-minute time limit.

Members of the public interested in attending should submit their name to VEOFACA@va.gov by March 20, 2020 to help expedite the sign-in process. To prevent delays, members of the public should allow an additional 30 minutes for parking and access to the facility. Any member of the public seeking additional information should contact Betty Moseley Brown (Designated Federal Official) at Betty.MoseleyBrown@va.gov or (210) 392-2505.

Dated: February 26, 2020.
Jelessa M. Burney,
Federal Advisory Committee Management Officer.

[FR Doc. 2020-04240 Filed 2-28-20; 8:45 am]

BILLING CODE P